FEDERAL COMMUNICATIONS COMMISSION

47 CFR Parts 1, 61, and 69

[CC Docket No. 96-128; DA 04-774]

Implementation of Pay Telephone Reclassification and Compensation Provisions of the Telecommunications Act of 1996

AGENCY: Federal Communications Commission.

ACTION: Proposed rule; reply comment period extended.

SUMMARY: On March 24, 2004, the Commission granted a request by Martha Wright et al. to extend the deadline for filing reply comments regarding a Petition For Rulemaking or, in the Alternative, Petition To Address Referral Issues In A Pending Rulemaking (Wright Petition) filed in CC Docket No. 96-128.

DATES: Reply comments are due on or before April 21, 2004.

ADDRESSES: Federal Communications Commission, Marlene H. Dortch, Office of the Secretary, 445 12th Street SW., TW-A325, Washington, DC 20554. See Supplementary Information for information on additional instructions for filing paper copies.

FOR FURTHER INFORMATION CONTACT: Joi Roberson Nolen, Wireline Competition Bureau, 202-418-1520.

SUPPLEMENTARY INFORMATION: On December 31, 2003, the Wireline Competition Bureau released the Wright Public Notice seeking comment on a Petition for Rulemaking or, in the Alternative, Petition to Address Referral Issues In a Pending Rulemaking (Wright Petition) filed by Martha Wright and other prison inmate and non-inmate petitioners (jointly, “the Wright Petitioners”). The Wright Public Notice stated that comments would be due 20 days after publication of the public notice in the Federal Register, and reply comments would be due 30 days after Federal Register publication. The Federal Register published the Wright Public Notice on January 20, 2004. See Implementation of the Pay Telephone Reclassification and Compensation Provisions of the Telecommunications Act of 1996, CC Docket No. 96-128, Notice of Proposed Rulemaking, 69 FR 2697, January 20, 2004. Accordingly, comments were due by February 9, 2004, and reply comments were due by February 19, 2004. The Bureau subsequently granted the joint request of Evercom Systems, Inc., T-NETIX, Inc., and Corrections Corporation of America for a one-month extension of the deadline so that parties could file comments by March 10, 2004, and reply comments by March 31, 2004. See Implementation of the Pay Telephone Reclassification and Compensation Provisions of the Telecommunications Act of 1996, CC Docket No. 96-128, Notice of Proposed Rulemaking; Comment Periods Extended, 69 FR 7615, February 18, 2004.

On March 16, 2004, the Wright Petitioners filed a motion to extend the deadline for filing reply comments in this proceeding. In their pleading, the Wright Petitioners contend that many of the oppositions submitted in response to the Wright Petition are supported by multiple expert affidavits and studies each of which will require time-consuming analysis and rebuttal by the Wright Petitioners' expert. The Wright Petitioners further assert that such analysis and rebuttal can not be completed in the current 15-day reply comment period. T-NETIX, a commenter in the proceeding, has consented to the motion. T-NETIX asserts that the extension is warranted given the extensive initial comments filed in response to the Wright Petition and the crucial legal and public policy issues at stake. No oppositions to the request for an extension of time have been filed.

It is the policy of the Commission that extensions of time are not routinely granted. See 47 CFR 1.46(a). In this instance, however, the Bureau finds that the commenters have shown good cause for an extension of the deadline for filing comments and reply comments in this proceeding. Because of the complexity of the issues, the related necessary economic analysis, and the length of the pleadings, we grant a limited extension so that parties may file reply comments by April 21, 2004. This matter shall continue to be treated as a “permit-but-disclose” proceeding in accordance with the Commission's ex parte rules. See 47 CFR 1.1206. All other requirements discussed in the Federal Register publication of the Wright Public Notice remain in effect. See Implementation of the Pay Telephone Reclassification and Compensation Provisions of the Telecommunications Act of 1996, CC Docket No. 96-128, Notice of Proposed Rulemaking, 69 FR 2697, January 20, 2004.

Federal Communications Commission.
Marlene H. Dortch,
Secretary.

[FR Doc. 04-7804 Filed 4-5-04; 8:45 am]

BILLING CODE 6712-01-P